DEPARTMENT OF ENERGY

Federal Energy Regulatory Commission

[Docket No. EL03-29-000]

PG&E Energy Trading-Power, L.P., Complainant, v. California Power Exchange Corporation, Respondent; Notice of Filing

December 12, 2002.

Take notice that on December 10, 2002, pursuant to 16 U.S.C. 824e and Rule 206 of the Rules of Practice and Procedure of the Federal Energy Regulatory Commission (the Commission or the FERC), 18 CFR 385.206, PG&E Energy Trading-Power, L.P. (PGET) submitted its Complaint, requesting that the Commission order the California Power Exchange Corporation (CalPX) to reduce the amount of the collateral that PGET must provide as a condition for having participated in the now-defunct CalPX markets. In particular, PGET seeks a Commission order directing the CalPX to release PGET's letter of credit currently held in the amount of $19,000,000.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before January 6, 2003. This filing is available for review at the Commission in the Public Reference Room or may be viewed on the Commission's Web site at http://www.ferc.gov using the “FERRIS” link.

Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31896 Filed 12-17-02; 8:45 am]

BILLING CODE 6717-01-P